DEPARTMENT OF THE INTERIOR

National Park Service

[NPS-WASO-NAGPRA-NPS0024154; PCU00RP14.R50000-PPWOCRDN0]

Notice of Inventory Completion: U.S. Department of the Interior, Bureau of Indian Affairs, Washington, DC

AGENCY: National Park Service, Interior.

ACTION: Notice.

SUMMARY: The U.S. Department of the Interior, Bureau of Indian Affairs, has completed an inventory of human remains and associated funerary objects, in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to the Bureau of Indian Affairs. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to the Bureau of Indian Affairs at the address in this notice by December 8, 2017.

ADDRESSES: Anna Pardo, Museum Program Manager/NAGPRA Coordinator, U.S. Department of the Interior, Bureau of Indian Affairs, 12220 Sunrise Valley Drive, Room 6084, Reston, VA 20191, telephone (703) 390-6343, email Anna.Pardo@bia.gov.

SUPPLEMENTARY INFORMATION: Notice is here given in accordance with the Native American Graves Protection and Repatriation Act (NAGPRA), 25 U.S.C. 3003, of the completion of an inventory of human remains and associated funerary objects under the control of the U.S. Department of the Interior, Bureau of Indian Affairs, Washington, DC. The human remains and associated funerary objects were removed from a site in the southern portion of the Blackfeet Indian Reservation of Montana, Glacier County, MT.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the U.S. Department of the Interior, Bureau of Indian Affairs, professional staff in consultation with representatives of the Blackfeet Tribe of the Blackfeet Indian Reservation of Montana.

History and Description of the Remains

In September of 1961, human remains representing, at minimum, four individuals were removed by Thomas Kehoe, Archeologist and Curator of the Museum of the Plains Indian, from a site in Glacier County, MT. At the time of this surface removal, the Museum of the Plains Indian was a part of the Bureau of Indian Affairs, and Kehoe had been conducting extensive archeological surveys throughout the Blackfeet Indian Reservation. A note found in the box with these items states, “Surface burial found in Southern portion of Blackfeet Reservation, CUA, 9/61.” The human remains have continued to be housed at the Museum since being collected. No known individuals were identified. The 41 associated funerary objects are 5 small wooden ladders, 4 spoons, 1 partial key, 1 bullet press, 1 iron, 1 ladle, 1 enamel tin cup, 2 belt buckles, 1 scissors blade, 1 bucket part, 16 beads, and 7 brass buttons.

Determinations Made by the Bureau of Indian Affairs

Officials of the Bureau of Indian Affairs have determined that:

• Pursuant to 25 U.S.C. 3001(9), the human remains described in this notice are Native American based on biological and historical evidence.

• Pursuant to 25 U.S.C. 3001(9), the human remains described in this notice represent the physical remains of four individuals of Native American ancestry.

• Pursuant to 25 U.S.C. 3001(3)(A), the 41 objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• Pursuant to 25 U.S.C. 3001 (15), the land from which the Native American human remains and associated funerary objects were removed is the tribal land of the Blackfeet Tribe of the Blackfeet Indian Reservation of Montana.

• Pursuant to 43 CFR 10.11(c)(1), the disposition of the human remains and associated funerary objects may be to the Blackfeet Tribe of the Blackfeet Indian Reservation of Montana.

Additional Requestors and Disposition

Representatives of any Indian Tribe or Native Hawaiian organization not identified in this notice that wish to request transfer of control of these human remains and associated funerary objects should submit a written request with information in support of the request to Anna Pardo, Museum Program Manager/NAGPRA Coordinator, U.S. Department of the Interior, Bureau of Indian Affairs, 12220 Sunrise Valley Drive, Room 6084, Reston, VA 20191, telephone (703) 390-6343, email Anna.Pardo@bia.gov, by December 8, 2017. After that date, if no additional requestors have come forward, transfer of control of the human remains and associated funerary objects to the Blackfeet Tribe of the Blackfeet Indian Reservation of Montana may proceed.

The Bureau of Indian Affairs is responsible for notifying the Blackfeet Tribe of the Blackfeet Indian Reservation of Montana that this notice has been published.

Dated: September 14, 2017.
Melanie O'Brien,
Manager, National NAGPRA Program.

[FR Doc. 2017-24233 Filed 11-7-17; 8:45 am]

BILLING CODE 4312-52-P